NATIONAL AERONAUTICS AND SPACE ADMINISTRATION

[(10-101)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street SW., JF0000, Washington, DC 20546, (202) 358-1351, Lori.Parker@nasa.gov.

SUPPLEMENTARY INFORMATION:

I. Abstract

DIME & WING are components of a NASA competition program which allows teams to design and build a science experiment which will then be operated in a NASA microgravity drop tower facility. Teams of 4 students are selected to come to GRC and drop their experiment and will be required to complete a registration form to get on base, photo release form and medical form.

II. Method of Collection

Electronic.

III. Data

Title: Dropping In a Microgravity Environment (DIME) and What If No Gravity? (WING) Drop Tower Competitions.

OMB Number: 2700-XXXX.

Type of Review: New Collection.

Affected Public: Individuals or households.

Estimated Number of Respondents: 20.

Estimated Number of Responses per Respondent: 1.

Estimated Time per Response: 30 minutes.

Estimated Total Annual Burden Hours: 6 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA Clearance Officer.

[FR Doc. 2010-21998 Filed 9-2-10; 8:45 am]

BILLING CODE 7510-13-P